NUCLEAR REGULATORY COMMISSION

[NRC-2020-0001]

Sunshine Act Meetings

TIME AND DATE: Weeks of September 7, 14, 21, 28, October 5, 12, 19, 2020.

PLACE: Commissioners' Conference Room, 11555 Rockville Pike, Rockville, Maryland.

STATUS: Public.

Week of September 7, 2020

There are no meetings scheduled for the week of September 7, 2020.

Week of September 14, 2020—Tentative

Tuesday, September 15, 2020

10:00 a.m. Agency's Response to the COVID-19 Public Health Emergency (Public Meeting), (Contact: Luis Betancourt: 301-415-6146).

Additional Information: Due to COVID-19, there will be no physical public attendance.

The public is invited to attend the Commission's meeting live by webcast at the Web address— https://www.nrc.gov/.

Thursday, September 17, 2020

10:00 a.m. Transformation at the NRC—Milestones and Results (Public Meeting), (Contact: Maria Arribas-Colon: 301-415-6026).

Additional Information: Due to COVID-19, there will be no physical public attendance.

The public is invited to attend the Commission's meeting live by webcast at the Web address— https://www.nrc.gov/.

Week of September 21, 2020—Tentative

There are no meetings scheduled for the week of September 21, 2020.

Week of September 28, 2020—Tentative

Wednesday, September 30, 2020

9:00 a.m. Strategic Programmatic Overview of the Operating Reactors and New Reactors Business Lines and Results of the Agency Action Review Meeting (Public Meeting), (Contact: Candace de Messieres: 301-415-8395).

Additional Information: Due to COVID-19, there will be no physical public attendance.

The public is invited to attend the Commission's meeting live by webcast at the Web address— https://www.nrc.gov/.

Week of October 5, 2020—Tentative

Thursday, October 8, 2020

10:00 a.m. Meeting with the Organization of Agreement States and the Conference of Radiation Control Program Directors (Public Meeting), (Contact: Celimar Valentin-Rodriquez: 301-415-7124).

Additional Information: Due to COVID-19, there will be no physical public attendance.

The public is invited to attend the Commission's meeting live by webcast at the Web address— https://www.nrc.gov/.

Week of October 12, 2020—Tentative

There are no meetings scheduled for the week of October 12, 2020.

Week of October 19, 2020—Tentative

Wednesday, October 21, 2020

10:00 a.m. Briefing on Human Capital and Equal Employment Opportunity (Public Meeting), (Contact: Randi Neff: 301-287-0583).

Additional Information: Due to COVID-19, there will be no physical public attendance.

The public is invited to attend the Commission's meeting live by webcast at the Web address— https://www.nrc.gov/.

1:00 p.m. All Employees Meeting with the Commissioners (Public Meeting)

Additional Information: Due to COVID-19, there will be no physical public attendance.

The public is invited to attend the Commission's meeting live by webcast at the Web address— https://www.nrc.gov/.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov or Tyesha.Bush@nrc.gov.

The NRC is holding the meetings under the authority of the Government in the Sunshine Act, 5 U.S.C. 552b.

Dated: September 3, 2020.
For the Nuclear Regulatory Commission.
Denise L. McGovern
Policy Coordinator, Office of the Secretary.

[FR Doc. 2020-19940 Filed 9-3-20; 4:15 pm]

BILLING CODE 7590-01-P